DEPARTMENT OF TRANSPORTATION

Federal Aviation Administration

14 CFR Part 71

[Docket No. FAA-2022-0245; Airspace Docket No. 19-AAL-49]

RIN 2120-AA66

Establishment of United States Area Navigation (RNAV) Route T-380; Emmonak, AK

AGENCY: Federal Aviation Administration (FAA), DOT.

ACTION: Final rule, delay of effective date.

SUMMARY: This action delays the effective date of a final rule published in the Federal Register on October 26, 2022, establishing area navigation (RNAV) route T-380 in the vicinity of Emmonak, AK. The FAA is delaying the effective date to allow sufficient time for completion of the required flight inspection of the route.

DATES: The effective date of the final rule published on October 26, 2022 (87 FR 64697) is delayed until April 20, 2023. The Director of the Federal Register approved this incorporation by reference action under 1 CFR part 51, subject to the annual revision of FAA Order 7400.11 and publication of conforming amendments.

FOR FURTHER INFORMATION CONTACT: Paul Gallant, Rules and Regulations Group, Office of Policy, Federal Aviation Administration, 800 Independence Avenue SW, Washington, DC 20591; telephone: (202) 267-8783.

SUPPLEMENTARY INFORMATION:

Background

The FAA published a final rule in the Federal Register for Docket No. FAA-2022-0245 (85 FR 64697, October 26, 2022), establishing RNAV route T-380 in the vicinity of Emmonak, AK. The effective date for that final rule is December 29, 2022. Subsequent to the final rule, it was determined that the required flight inspection of T-380 was not completed due to weather conditions. The pending onset of winter weather conditions in Alaska will further impact the completion of flight inspections in the State.

To facilitate the safe and continuous use of existing air traffic procedures and allow sufficient time for completion of the required flight inspection of route T-380, the effective date of this rule is delayed to April 20, 2023.

United States Area Navigation Routes are published in paragraph 6011 of FAA Order JO 7400.11G dated August 19, 2022 and effective September 15, 2022, which is incorporated by reference in 14 CFR 71.1. The RNAV route listed in this document will be published subsequently in FAA Order JO 7400.11G.

FAA Order 7400.11, Airspace Designations and Reporting Points, is published yearly and effective on September 15.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.”

Delay of Effective Date

Accordingly, pursuant to the authority delegated to me, the effective date of the final rule, Airspace Docket 19-AAL-49, as published in the Federal Register on October 26, 2022 (87 FR 64697, FR Doc. 2022-22782), is hereby delayed until April 20, 2023.

Authority: 49 U.S.C. 106(f), 106(g); 40103, 40113, 40120; E.O. 10854, 24 FR 9565, 3 CFR, 1959-1963 Comp., P. 389.

* * * * *

Issued in Washington, DC, on November 21, 2022.
Scott M. Rosenbloom,
Manager, Airspace Rules and Regulations.

[FR Doc. 2022-25802 Filed 11-25-22; 8:45 am]

BILLING CODE 4910-13-P